DEPARTMENT OF THE TREASURY

Internal Revenue Service

26 CFR Part 1

[REG-130266-11]

RIN 1545-BK57

Additional Requirements for Charitable Hospitals; Hearing

AGENCY: Internal Revenue Service (IRS), Treasury.

ACTION: Change of date of public hearing on proposed rulemaking.

SUMMARY: This document changes the date of a public hearing on proposed regulations that provide guidance regarding the requirements for charitable hospital organizations relating to financial assistance and emergency medical care policies, charges for certain care provided to individuals eligible for financial assistance, and billing and collections.

DATES: The public hearing originally scheduled for Monday, October 29, 2012, at 10 a.m. is rescheduled for Wednesday, December 5, 2012, at 10 a.m. Outlines of topics to be discussed at the public hearing must be received by November 7, 2012.

ADDRESSES: The public hearing is being held in the IRS Auditorium, Internal Revenue Service Building, 1111 Constitution Avenue NW., Washington, DC 20224. Due to building security procedures, visitors must enter at the Constitution Avenue entrance. In addition, all visitors must present photo identification to enter the building.

Send Submissions to CC:PA:LPD:PR (REG-130266-11), Room 5205, Internal Revenue Service, P.O. Box 7604, Ben Franklin Station, Washington, DC 20044. Submissions may be hand-delivered Monday through Friday to CC:PA:LPD:PR (REG-130266-11), Couriers Desk, Internal Revenue Service, 1111 Constitution Avenue NW., Washington, DC or sent electronically via the Federal eRulemaking Portal at www.regulations.gov (REG-130266-11).

FOR FURTHER INFORMATION CONTACT: Concerning the regulations, Amber L. Mackenzie or Preston J. Quesenberry at (202) 622-6070; concerning submissions of comments, the hearing and/or to be placed on the building access list to attend the hearing Oluwafunmilayo Taylor at (202) 622-7180 (not toll-free numbers).

SUPPLEMENTARY INFORMATION: A notice of public hearing on proposed rulemaking appearing in the Federal Register on Monday, October 1, 2012 (77 FR 59878), announced that a public hearing on proposed regulations regarding the requirements for charitable hospital organizations, would be held on Monday, October 29, 2012, beginning at 10 a.m. in the auditorium of the Internal Revenue Service Building at 1111 Constitution Avenue NW., Washington, DC.

Because of access restrictions, the IRS will not admit visitors beyond the immediate entrance area more than 30 minutes before the hearing starts. For information about having your name placed on the building access list to attend the hearing, see the FOR FURTHER INFORMATION CONTACT section of this document.

The date of the public hearing has been changed. The hearing is now scheduled for Wednesday, December 5, 2012, beginning at 10 a.m. in the auditorium of the Internal Revenue Service at 1111 Constitution Avenue NW., Washington, DC. Outlines of topics to be discussed at the public hearing must be received by November 7, 2012.

LaNita Van Dyke,
Chief, Publications and Regulations Branch, Legal Processing Division, Associate Chief Counsel (Procedure and Administration).

[FR Doc. 2012-25298 Filed 10-15-12; 8:45 am]

BILLING CODE 4830-01-P